DEPARTMENT OF THE INTERIOR

Fish and Wildlife Service

Recovery Plan for the Pacific Coast Population of the Western Snowy Plover

AGENCY: Fish and Wildlife Service, Interior.

ACTION: Notice of document availability.

SUMMARY: We, the U.S. Fish and Wildlife Service (Service), announce the availability of the recovery plan for the Pacific Coast population of the Western Snowy Plover (Charadrius alexandrinus nivosus). The final plan includes recovery criteria and measures for the Pacific coast population of the western snowy plover.

ADDRESSES: You may obtain a copy of the plan by either of the following methods: Internet: Download a copy at http://endangered.fws.gov/recovery/index.html#plans; or U.S. mail: Send a request to U.S. Fish and Wildlife Service, Sacramento Fish and Wildlife Office, 2800 Cottage Way, Room W-2605, Sacramento, CA 95825. Printed copies of the recovery plan will be available for distribution in 4 to 6 weeks.

FOR FURTHER INFORMATION CONTACT: Craig Aubrey, Fish and Wildlife Biologist, at the above Sacramento address (telephone, 916-414-6600).

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species, establish criteria for the recovery levels for downlisting or delisting them, and estimate time and cost for implementing the recovery measures needed.

Section 4(f) of the Endangered Species Act (Act) (16 U.S.C. 1531 et seq.) requires us to provide public notice and an opportunity for public review and comment during recovery plan development. We made the draft recovery plan for the Pacific Coast population of western snowy plover was available for public comment from August 14, 2001, through December 12, 2001 (66 FR 42676). We provided an opportunity to resubmit comments due to the possibility that some comments submitted were not received due to a shutdown in the Department of the Interior's internet access, including receipt of outside electronic mail. Resubmitted comments were accepted through February 15, 2002. We considered information we received during the public comment period in our preparation of this final recovery plan, and also summarized that information in an appendix of the recovery plan. We will forward substantive comments regarding recovery plan implementation to appropriate Federal or other entities so they can take these comments into account in the course of implementing recovery actions.

The Pacific coast breeding population of the western snowy plover (Charadrius alexandrinus nivosus) currently extends from Damon Point, Washington, to Bahia Magdalena, Baja California, Mexico. Snowy plovers (Pacific coast population) breed primarily above the high tide line on coastal beaches, sand spits, dune-backed beaches, sparsely vegetated dunes, beaches at creek and river mouths, and salt pans at lagoons and estuaries. Less common nesting habitats include bluff-backed beaches, dredged material disposal sites, salt pond levees, dry salt ponds, and river bars. The snowy plover winters mainly in coastal areas from southern Washington to Central America. In winter, snowy plovers are found on many of the beaches used for nesting as well as on beaches where they do not nest, in manmade salt ponds, and on estuarine sand and mud flats. Habitat degradation caused by human disturbance, urban development, introduced beachgrass (Ammophila spp.), and expanding predator populations has resulted in a decline in active nesting areas and in the size of the breeding and wintering populations.

Our primary objective in this recovery plan is to remove the Pacific coast population of the western snowy plover from the List of Endangered and Threatened Wildlife and Plants by achieving well-distributed increases in numbers and productivity of breeding adult birds, and providing for long-term protection of breeding and wintering plovers and their habitat. Specific actions needed to achieve this objective and described in the recovery plan include (1) protection of breeding and wintering habitat; (2) monitoring and managing breeding habitat; (3) monitoring and managing wintering and migration areas; (4) undertaking scientific research that facilitates recovery efforts; (5) public participation, outreach, and education; and (6) establishing an international conservation program with the Mexican government to protect snowy plovers and their breeding and wintering locations in Mexico.

Authority

The authority for this action is section 4(f) of the Endangered Species Act, 16 U.S.C. 1533(f).

Dated: September 17, 2007.
Darrin Thome,
Acting Manager, California/Nevada Operations Office, U.S. Fish and Wildlife Service.

[FR Doc. E7-18638 Filed 9-21-07; 8:45 am]

BILLING CODE 4310-55-P